DEPARTMENT OF ENERGY

Federal Energy Regulatory Commission

[Project No. 2698-110]

Duke Energy Carolinas, LLC; Notice of Application Accepted for Filing and Soliciting Comments, Motions To Intervene, and Protests

Take notice that the following hydroelectric application has been filed with the Commission and is available for public inspection:

a. Application Type: Request for Extension of Reservoir Elevation Variance.

b. Project No: 2698-110.

c. Date Filed: August 16, 2021.

d. Applicant: Duke Energy Carolinas, LLC.

e. Name of Project: East Fork Hydroelectric Project.

f. Location: The project is located on the East Fork of the Tuckasegee River in Jackson County, North Carolina.

g. Filed Pursuant to: Federal Power Act, 16 U.S.C. 791a-825r.

h. Applicant Contact: Jeff Lineberger, Director, Duke Energy Carolinas, LLC, 526 S Church Street—Mail Stop EC12Y, Charlotte, NC 28202, Jeff.Lineberger@duke-energy.com.

i. FERC Contact: Michael Calloway at (202) 502-8041 or michael.calloway@ferc.gov.

j. Deadline for filing comments, motions to intervene, and protests: September 20, 2021.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-2698-110. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee is proposing to extend the drawdown of the Cedar Cliff Hydroelectric Development's reservoir that was previously approved on August 27, 2019 by the Order Approving Variance of Article 401 (168 FERC ¶ 62,116) that is currently in effect until September 2021. The licensee is proposing to extend the drawdown of 30 feet below normal pool until September 30, 2024 in order to complete auxiliary spillway upgrades for project safety purposes. The licensee is in the process of modifying the spillway area by rock splitting and blasting to lower the sill to 2,305 ft above mean sea level to accommodate 6 Fusegates. The licensee has also constructed and is using the new access road to facilitate the construction activity. The resulting spoil material is being placed in the reservoir per the requirements of the U.S. Army Corps of Engineers Section 404 individual permit and the Section 401 Water Quality Certification conditions from the North Carolina Division of Water Resource. The licensee is implementing mitigation measures to protect Indiana bats and northern long-eared bats that were required by U.S. Fish and Wildlife Service. Furthermore, the licensee plans to keep the public access boat ramp closed for the duration of the drawdown, and plans to repave the parking lot and remove sediment from the launch area during the closure.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: August 19, 2021.
Kimberly D. Bose,
Secretary.

[FR Doc. 2021-18286 Filed 8-24-21; 8:45 am]

BILLING CODE 6717-01-P